OFFICE OF MANAGEMENT AND BUDGET

Budget Analysis Branch; Final Sequestration Report

AGENCY: Office of Management and Budget, Budget Analysis Branch.

ACTION: Notice of transmittal of the Final Sequestration Report to the President and Congress for Fiscal Year 2003.

SUMMARY: Pursuant to Section 254(b) of the Balanced Budget and Emergency Control Act of 1985, as amended, the Office of Management and Budget hereby reports that it has submitted the Final Sequestration Report for Fiscal Year 2003 to the President, the Speaker of the House of Representatives, and the President of the Senate.

FOR FURTHER INFORMATION CONTACT: Sarah Lee, Budget Analysis Branch—202/395-3674.

Dated: December 6, 2002.
Richard P. Emery, Jr.,
Assistant Director for Budget Review.

[FR Doc. 02-31357 Filed 12-11-02; 8:45 am]

BILLING CODE 4810-25-P